DEPARTMENT OF HOMELAND SECURITY

Federal Emergency Management Agency

44 CFR Part 64

[Docket ID FEMA-2008-0020; Internal Agency Docket No. FEMA-8095]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region I
Massachusetts:
Boston, City of, Suffolk County | 250286 | July 7, 1975, Emerg; April 1, 1982, Reg; September 25, 2009, Susp. | 09/25/2009 | 09/25/2009.
Chelsea, City of, Suffolk County | 250287 | May 26, 1972, Emerg; August 2, 1982, Reg; September 25, 2009, Susp. | ......do* | do.
Revere, City of, Suffolk County | 250288 | December 29, 1972, Emerg; October 16, 1984, Reg; September 25, 2009, Susp. | ......do | do.
Winthrop, Town of, Suffolk County | 250289 | November 3, 1972, Emerg; October 8, 1976, Reg; September 25, 2009, Susp. | ......do | do.
New Hampshire:
Amherst, Town of, Hillsborough County | 330081 | May 28, 1974, Emerg; July 2, 1979, Reg; September 25, 2009, Susp. | ......do | do.
Antrim, Town of, Hillsborough County | 330082 | May 27, 1975, Emerg; April 1, 1981, Reg; September 25, 2009, Susp. | ......do | do.
Bedford, Town of, Hillsborough County | 330083 | September 26, 1975, Emerg; April 16, 1979, Reg; September 25, 2009, Susp. | ......do | do.
Bennington, Town of, Hillsborough County | 330084 | July 25, 1975, Emerg; April 18, 1983, Reg; September 25, 2009, Susp. | ......do | do.
Brookline, Town of, Hillsborough County | 330180 | August 12, 1985, Emerg; May 19, 1987, Reg; September 25, 2009, Susp. | ......do | do.
Deering, Town of, Hillsborough County | 330085 | July 1, 1975, Emerg; August 1, 1979, Reg; September 25, 2009, Susp. | ......do | do.
Francestown, Town of, Hillsborough County | 330086 | August 25, 1975, Emerg; May 17, 1977, Reg; September 25, 2009, Susp. | ......do | do.
Goffstown, Town of, Hillsborough County | 330087 | October 28, 1975, Emerg; June 15, 1979, Reg; September 25, 2009, Susp. | ......do | do.
Greenfield, Town of, Hillsborough County | 330209 | November 17, 1977, Emerg; May 1, 1980, Reg; September 25, 2009, Susp. | ......do | do.
Greenville, Town of, Hillsborough County | 330088 | July 28, 1975, Emerg; May 19, 1981, Reg; September 25, 2009, Susp. | ......do | do.
Hancock, Town of, Hillsborough County | 330089 | April 25, 1975, Emerg; April 4, 1983, Reg; September 25, 2009, Susp. | ......do | do.
Hillsborough, Town of, Hillsborough County | 330090 | August 13, 1974, Emerg; June 15, 1979, Reg; September 25, 2009, Susp. | ......do | do.
Hollis, Town of, Hillsborough County | 330091 | February 28, 1975, Emerg; April 16, 1979, Reg; September 25, 2009, Susp. | ......do | do.
Hudson, Town of, Hillsborough County | 330092 | November 17, 1977, Emerg; January 3, 1979, Reg; September 25, 2009, Susp. | ......do | do.
Litchfield, Town of, Hillsborough County | 330093 | July 31, 1975, Emerg; July 16, 1979, Reg; September 25, 2009, Susp. | ......do | do.
Manchester, City of, Hillsborough County | 330169 | March 26, 1975, Emerg; February 18, 1981, Reg; September 25, 2009, Susp. | ......do | do.
Mason, Town of, Hillsborough County | 330221 | July 29, 1992, Emerg; December 1, 1992, Reg; September 25, 2009, Susp. | ......do | do.
Merrimack, Town of, Hillsborough County | 330095 | November 11, 1974, Emerg; July 16, 1979, Reg; September 25, 2009, Susp. | ......do | do.
Milford, Town of, Hillsborough County | 330096 | June 12, 1975, Emerg; May 1, 1980, Reg; September 25, 2009, Susp. | ......do | do.
Nashua, City of, Hillsborough County | 330097 | February 6, 1975, Emerg; June 15, 1979, Reg; September 25, 2009, Susp. | ......do | do.
New Boston, Town of, Hillsborough County | 330098 | November 10, 1975, Emerg; May 19, 1981, Reg; September 25, 2009, Susp. | ......do | do.
New Ipswich, Town of, Hillsborough County | 330099 | July 27, 1976, Emerg; May 15, 1991, Reg; September 25, 2009, Susp. | ......do | do.
Pelham, Town of, Hillsborough County | 330100 | July 19, 1974, Emerg; March 14, 1980, Reg; September 25, 2009, Susp. | ......do | do.
Peterborough, Town of, Hillsborough County | 330101 | April 22, 1975, Emerg; May 1, 1980, Reg; September 25, 2009, Susp. | ......do | do.
Weare, Town of, Hillsborough County | 330235 | October 25, 1985, Emerg; June 2, 1993, Reg; September 25, 2009, Susp. | ......do | do.
Wilton, Town of, Hillsborough County | 330102 | February 26, 1975, Emerg; April 15, 1980, Reg; September 25, 2009, Susp. | ......do | do.
Region II
New Jersey:
Aberdeen, Township of, Monmouth County | 340312 | April 12, 1974, Emerg; March 18, 1985, Reg; September 25, 2009, Susp. | ......do | do.
Allenhurst, Borough of, Monmouth County | 340283 | April 10, 1975, Emerg; March 15, 1979, Reg; September 25, 2009, Susp. | ......do | do.
Allentown, Borough of, Monmouth County | 340284 | May 28, 1974, Emerg; September 16, 1981, Reg; September 25, 2009, Susp. | ......do | do.
Asbury Park, City of, Monmouth County | 340285 | November 6, 1974, Emerg; February 15, 1979, Reg; September 25, 2009, Susp. | ......do | do.
Belmar, Borough of, Monmouth County | 345283 | March 19, 1971, Emerg; May 12, 1972, Reg; September 25, 2009, Susp. | ......do | do.
Bethlehem, Township of, Hunterdon County | 340554 | September 16, 1975, Emerg; December 15, 1981, Reg; September 25, 2009, Susp. | ......do | do.
Bloomsbury, Borough of, Hunterdon County | 340231 | June 24, 1975, Emerg; December 1, 1981, Reg; September 25, 2009, Susp. | ......do | do.
Bradley Beach, Borough of, Monmouth County | 340289 | June 25, 1975, Emerg; August 1, 1979, Reg; September 25, 2009, Susp. | ......do | do.
Califon, Borough of, Hunterdon County | 340232 | September 18, 1974, Emerg; August 3, 1981, Reg; September 25, 2009, Susp. | ......do | do.
Clinton, Town of, Hunterdon County | 340233 | November 10, 1972, Emerg; February 2, 1977, Reg; September 25, 2009, Susp. | ......do | do.
Clinton, Township of, Hunterdon County | 340505 | August 26, 1974, Emerg; March 1, 1984, Reg; September 25, 2009, Susp. | ......do | do.
Colts Neck, Township of, Monmouth County | 340291 | July 3, 1975, Emerg; April 15, 1982, Reg; September 25, 2009, Susp. | ......do | do.
Deal, Borough of, Monmouth County | 340292 | January 14, 1972, Emerg; March 5, 1976, Reg; September 25, 2009, Susp. | ......do | do.
Delaware, Township of, Hunterdon County | 340506 | October 21, 1974, Emerg; January 20, 1982, Reg; September 25, 2009, Susp. | ......do | do.
East Amwell, Township of, Hunterdon County | 340498 | January 14, 1974, Emerg; November 4, 1981, Reg; September 25, 2009, Susp. | ......do | do.
Eatontown, Borough of, Monmouth County | 340293 | July 1, 1975, Emerg; September 16, 1981, Reg; September 25, 2009, Susp. | ......do | do.
Fair Haven, Borough of, Monmouth County | 340295 | October 2, 1973, Emerg; October 16, 1979, Reg; September 25, 2009, Susp. | ......do | do.
Flemington, Borough of, Hunterdon County | 340520 | September 25, 1975, Emerg; May 15, 1980, Reg; September 25, 2009, Susp. | ......do | do.
Franklin, Township of, Hunterdon County | 340507 | March 22, 1976, Emerg; August 3, 1981, Reg; September 25, 2009, Susp. | ......do | do.
Freehold, Township of, Monmouth County | 340297 | February 9, 1973, Emerg; April 4, 1983, Reg; September 25, 2009, Susp. | ......do | do.
Frenchtown, Borough of, Hunterdon County | 340234 | January 15, 1974, Emerg; March 16, 1981, Reg; September 25, 2009, Susp. | ......do | do.
Glen Gardner, Borough of, Hunterdon County | 340235 | July 8, 1975, Emerg; May 17, 1982, Reg; September 25, 2009, Susp. | ......do | do.
Hampton, Borough of, Hunterdon County | 340236 | October 9, 1975, Emerg; April 1, 1982, Reg; September 25, 2009, Susp. | ......do | do.
Hazlet, Township of, Monmouth County | 340298 | February 11, 1974, Emerg; December 1, 1982, Reg; September 25, 2009, Susp. | ......do | do.
High Bridge, Borough of, Hunterdon County | 340508 | November 18, 1974, Emerg; September 30, 1981, Reg; September 25, 2009, Susp. | ......do | do.
Highlands, Borough of, Monmouth County | 345297 | December 11, 1970, Emerg; September 3, 1971, Reg; September 25, 2009, Susp. | ......do | do.
Holland, Township of, Hunterdon County | 340509 | June 24, 1975, Emerg; March 16, 1981, Reg; September 25, 2009, Susp. | ......do | do.
Holmdel, Township of, Monmouth County | 340300 | April 14, 1975, Emerg; March 1, 1982, Reg; September 25, 2009, Susp. | ......do | do.
Howell, Township of, Monmouth County | 540301 | November 26, 1974, Emerg; January 6, 1983, Reg; September 25, 2009, Susp. | ......do | do.
Interlaken, Borough of, Monmouth County | 340302 | May 13, 1975, Emerg; January 2, 1981, Reg; September 25, 2009, Susp. | ......do | do.
Keansburg, Borough of, Monmouth County | 340303 | May 26, 1972, Emerg; May 16, 1983, Reg; September 25, 2009, Susp. | ......do | do.
Keyport, Borough of, Monmouth County | 340304 | January 23, 1974, Emerg; July 2, 1979, Reg; September 25, 2009, Susp. | ......do | do.
Kingwood, Township of, Hunterdon County | 340499 | November 21, 1973, Emerg; November 4, 1981, Reg; September 25, 2009, Susp. | ......do | do.
Lambertville, City of, Hunterdon County | 340237 | September 4, 1973, Emerg; April 1, 1981, Reg; September 25, 2009, Susp. | ......do | do.
Lebanon, Borough of, Hunterdon County | 345299 | May 7, 1971, Emerg; August 18, 1972, Reg; September 25, 2009, Susp. | ......do | do.
Lebanon, Township of, Hunterdon County | 340510 | July 1, 1975, Emerg; January 5, 1984, Reg; September 25, 2009, Susp. | ......do | do.
Little Silver, Borough of, Monmouth County | 340305 | September 29, 1972, Emerg; February 1, 1978, Reg; September 25, 2009, Susp. | ......do | do.
Loch Arbour, Village of, Monmouth County | 340306 | June 27, 1973, Emerg; March 15, 1979, Reg; September 25, 2009, Susp. | ......do | do.
Manalapan, Township of, Monmouth County | 340308 | December 30, 1971, Emerg; September 15, 1977, Reg; September 25, 2009, Susp. | ......do | do.
Manasquan, Borough of, Monmouth County | 345303 | March 19, 1971, Emerg; May 12, 1972, Reg; September 25, 2009, Susp. | ......do | do.
Matawan, Borough of, Monmouth County | 340311 | June 23, 1975, Emerg; September 30, 1981, Reg; September 25, 2009, Susp. | ......do | do.
Middletown, Township of, Monmouth County | 340313 | May 20, 1974, Emerg; February 15, 1984, Reg; September 25, 2009, Susp. | ......do | do.
Milford, Borough of, Hunterdon County | 340239 | August 6, 1975, Emerg; November 18, 1981, Reg; September 25, 2009, Susp. | ......do | do.
Monmouth Beach, Borough of, Monmouth County | 340315 | July 30, 1971, Emerg; May 16, 1977, Reg; September 25, 2009, Susp. | ......do | do.
Neptune, Township of, Monmouth County | 340317 | January 14, 1972, Emerg; February 16, 1977, Reg; September 25, 2009, Susp. | ......do | do.
Neptune City, Borough of, Monmouth County | 340316 | April 15, 1975, Emerg; August 11, 1978, Reg; September 25, 2009, Susp. | ......do | do.
Ocean, Township of, Monmouth County | 340319 | November 24, 1972, Emerg; October 14, 1977, Reg; September 25, 2009, Susp. | ......do | do.
Oceanport, Borough of, Monmouth County | 340320 | July 14, 1972, Emerg; February 16, 1977, Reg; September 25, 2009, Susp. | ......do | do.
Raritan, Township of, Hunterdon County | 340240 | January 14, 1972, Emerg; November 15, 1985, Reg; September 25, 2009, Susp. | ......do | do.
Readington, Township of, Hunterdon County | 340514 | March 12, 1974, Emerg; February 15, 1985, Reg; September 25, 2009, Susp. | ......do | do.
Roosevelt, Borough of, Monmouth County | 340322 | February 12, 1975, Emerg; May 25, 1978, Reg; September 25, 2009, Susp. | ......do | do.
Rumson, Borough of, Monmouth County | 345316 | January 14, 1972, Emerg; December 21, 1973, Reg; September 25, 2009, Susp. | ......do | do.
Sea Bright, Borough of, Monmouth County | 345317 | December 11, 1970, Emerg; October 8, 1971, Reg; September 25, 2009, Susp. | ......do | do.
Sea Girt, Borough of, Monmouth County | 340325 | November 26, 1971, Emerg; March 5, 1976, Reg; September 25, 2009, Susp. | ......do | do.
Shrewsbury, Borough of, Monmouth County | 340326 | July 3, 1975, Emerg; August 1, 1979, Reg; September 25, 2009, Susp. | ......do | do.
Spring Lake, Borough of, Monmouth County | 340329 | September 15, 1972, Emerg; February 17, 1982, Reg; September 25, 2009, Susp. | ......do | do.
Spring Lake Heights, Borough of, Monmouth County | 340330 | March 7, 1975, Emerg; December 15, 1981, Reg; September 25, 2009, Susp. | ......do | do.
Stockton, Borough of, Hunterdon County | 345322 | April 23, 1971, Emerg; June 16, 1972, Reg; September 25, 2009, Susp. | ......do | do.
Tewksbury, Township of, Hunterdon County | 340516 | January 16, 1975, Emerg; April 15, 1982, Reg; September 25, 2009, Susp. | ......do | do.
Tinton Falls, Borough of, Monmouth County | 340318 | April 17, 1975, Emerg; April 15, 1982, Reg; September 25, 2009, Susp. | ......do | do.
Union, Township of, Hunterdon County | 340242 | July 29, 1975, Emerg; April 15, 1982, Reg; September 25, 2009, Susp. | ......do | do.
Union Beach, Borough of, Monmouth County | 340331 | June 18, 1974, Emerg; May 15, 1980, Reg; September 25, 2009, Susp. | ......do | do.
Upper Freehold, Township of, Monmouth County | 340332 | March 2, 1976, Emerg; October 2, 1979, Reg; September 25, 2009, Susp. | ......do | do.
Wall, Township of, Monmouth County | 340333 | December 17, 1971, Emerg; February 16, 1977, Reg; September 25, 2009, Susp. | ......do | do.
West Amwell, Township of, Hunterdon County | 340243 | November 17, 1972, Emerg; April 1, 1981, Reg; September 25, 2009, Susp. | ......do | do.
West Long Branch, Borough of, Monmouth County | 340334 | November 1, 1974, Emerg; January 16, 1981, Reg; September 25, 2009, Susp. | ......do | do.
Lake Como, Borough of, Monmouth County | 340328 | July 2, 1974, Emerg; November 28, 1980, Reg; September 25, 2009, Susp. | ......do | do.
New York:
Asharoken, Village of, Suffolk County | 365333 | September 11, 1970, Emerg; August 20, 1971, Reg; September 25, 2009, Susp. | ......do | do.
Babylon, Town of, Suffolk County | 360790 | August 25, 1972, Emerg; July 16, 1979, Reg; September 25, 2009, Susp. | ......do | do.
Belle Terre, Village of, Suffolk County | 361532 | March 23, 1976, Emerg; March 16, 1983, Reg; September 25, 2009, Susp. | ......do | do.
Bellport, Village of, Suffolk County | 361069 | May 30, 1974, Emerg; October 15, 1982, Reg; September 25, 2009, Susp. | ......do | do.
Dering Harbor, Village of, Suffolk County | 361524 | October 29, 1976, Emerg; August 11, 1978, Reg; September 25, 2009, Susp. | ......do | do.
East Hampton, Town of, Suffolk County | 360794 | June 11, 1971, Emerg; September 30, 1976, Reg; September 25, 2009, Susp. | ......do | do.
East Hampton, Village of, Suffolk County | 360795 | June 1, 1973, Emerg; September 30, 1980, Reg; September 25, 2009, Susp. | ......do | do.
Gardiner, Town of, Ulster County | 360856 | June 26, 1974, Emerg; September 30, 1982, Reg; September 25, 2009, Susp. | ......do | do.
Greenport, Village of, Suffolk County | 361004 | June 12, 1975, Emerg; June 15, 1983, Reg; September 25, 2009, Susp. | ......do | do.
Head of The Harbor, Village of, Suffolk County | 361513 | October 3, 1979, Emerg; August 1, 1983, Reg; September 25, 2009, Susp. | ......do | do.
Huntington, Town of, Suffolk County | 360796 | November 1, 1973, Emerg; November 1, 1978, Reg; September 25, 2009, Susp. | ......do | do.
Islip, Town of, Suffolk County | 365337 | October 16, 1970, Emerg; November 17, 1972, Reg; September 25, 2009, Susp. | ......do | do.
Kingston, City of, Ulster County | 360858 | April 26, 1974, Emerg ; May 1, 1985, Reg; September 25, 2009, Susp. | ......do | do.
Kingston, Town of, Ulster County | 361218 | July 21, 1975, Emerg; August 27, 1982, Reg; September 25, 2009, Susp. | ......do | do.
Lloyd, Town of, Ulster County | 361012 | August 19, 1975, Emerg; September 17, 1982, Reg; September 25, 2009, Susp. | ......do | do.
Marbletown, Town of, Ulster County | 361219 | September 26, 1975, Emerg; October 22, 1982, Reg; September 25, 2009, Susp. | ......do | do.
Marlborough, Town of, Ulster County | 361220 | November 14, 1975, Emerg; December 5, 1984, Reg; September 25, 2009, Susp. | ......do | do.
New Paltz, Town of, Ulster County | 360859 | June 27, 1974, Emerg; September 30, 1982, Reg; September 25, 2009, Susp. | ......do | do.
New Paltz, Village of, Ulster County | 361544 | March 9, 1976, Emerg; April 15, 1982, Reg; September 25, 2009, Susp. | ......do | do.
North Haven, Village of, Suffolk County | 360800 | January 19, 1973, Emerg; September 30, 1977, Reg; September 25, 2009, Susp. | ......do | do.
Northport, Village, Suffolk County | 360801 | April 26, 1974, Emerg; April 18, 1983, Reg; September 25, 2009, Susp. | ......do | do.
Ocean Beach, Village of, Suffolk County | 365339 | May 8, 1970, Emerg; May 21, 1971, Reg; September 25, 2009, Susp. | ......do | do.
Old Field, Village of, Suffolk County | 361545 | June 15, 1976, Emerg; April 18, 1983, Reg; September 25, 2009, Susp. | ......do | do.
Patchogue, Village of, Suffolk County | 360803 | October 1, 1973, Emerg; November 3, 1982, Reg; September 25, 2009, Susp. | ......do | do.
Plattekill, Town of, Ulster County | 361221 | February 4, 1976, Emerg; September 29, 1978, Reg; September 25, 2009, Susp. | ......do | do.
Port Jefferson, Village of, Suffolk County | 360804 | June 27, 1974, Emerg; March 2, 1983, Reg; September 25, 2009, Susp. | ......do | do.
Riverhead, Town of, Suffolk County | 360805 | February 5, 1974, Emerg; March 1, 1978, Reg; September 25, 2009, Susp. | ......do | do.
Rochester, Town of, Ulster County | 360861 | April 1, 1975, Emerg; March 16, 1983, Reg; September 25, 2009, Susp. | ......do | do.
Sag Harbor, Village of, Suffolk County | 360807 | January 14, 1974, Emerg; January 5, 1978, Reg; September 25, 2009, Susp. | ......do | do.
Sagaponack, Village of, Suffolk County | 361487 | NA, Emerg; May 5, 2008, Reg; September 25, 2009, Susp. | ......do | do.
Saltaire, Village of, Suffolk County | 365341 | May 22, 1970, Emerg; May 28, 1971, Reg; September 25, 2009, Susp. | ......do | do.
Saugerties, Town of, Ulster County | 360863 | January 16, 1975, Emerg; August 19, 1985, Reg; September 25, 2009, Susp. | ......do | do.
Shelter Island, Town of, Suffolk County | 360809 | August 31, 1973, Emerg; February 1, 1978, Reg; September 25, 2009, Susp. | ......do | do.
Shoreham, Village of, Suffolk County | 361506 | May 30, 1975, Emerg; May 25, 1978, Reg; September 25, 2009, Susp. | ......do | do.
Smithtown, Town of, Suffolk County | 360810 | February 9, 1973, Emerg; December 1, 1978, Reg; September 25, 2009, Susp. | ......do | do.
Southampton, Town of, Suffolk County | 365342 | July 30, 1971, Emerg; September 28, 1973, Reg; September 25, 2009, Susp. | ......do | do.
Southold, Town of, Suffolk County | 360813 | October 20, 1972, Emerg; March 18, 1980, Reg; September 25, 2009, Susp. | ......do | do.
The Branch, Village of, Suffolk County | 361551 | July 7, 1975, Emerg; November 17, 1982, Reg; September 25, 2009, Susp. | ......do | do.
West Hampton Dunes, Village of, Suffolk County | 361649 | NA, Emerg; December 8, 1995, Reg; September 25, 2009, Susp. | ......do | do.
Region III
Pennsylvania:
Carroll, Township of, York County | 422216 | September 16, 1974, Emerg; March 2, 1981, Reg; September 25, 2009, Susp. | ......do | do.
Chanceford, Township of, York County | 422217 | January 13, 1976, Emerg; October 15, 1981, Reg; September 25, 2009, Susp. | ......do | do.
Codorus, Township of, York County | 421142 | March 26, 1974, Emerg; July 5, 1983, Reg; September 25, 2009, Susp. | ......do | do.
Conewago, Township of, York County | 420918 | July 5, 1973, Emerg; March 18, 1980, Reg; September 25, 2009, Susp. | ......do | do.
Cross Roads, Borough of, York County | 422209 | July 12, 1976, Emerg; June 1, 1979, Reg; September 25, 2009, Susp. | ......do | do.
Delta, Borough of, York County | 422211 | January 20, 1976, Emerg; September 1, 1983, Reg; September 25, 2009, Susp. | ......do | do.
Dillsburg, Borough of, York County | 420919 | September 16, 1975, Emerg; September 28, 1979, Reg; September 25, 2009, Susp. | ......do | do.
Dover, Borough of, York County | 422569 | December 8, 1975, Emerg; December 19, 1980, Reg; September 25, 2009, Susp. | ......do | do.
Dover, Township of, York County | 420920 | March 9, 1973, Emerg; March 2, 1981, Reg; September 25, 2009, Susp. | ......do | do.
East Hopewell, Township of, York County | 422218 | April 16, 1981, Emerg; April 16, 1981, Reg; September 25, 2009, Susp. | ......do | do.
East Manchester, Township of, York County | 420921 | June 6, 1973, Emerg; November 19, 1980, Reg; September 25, 2009, Susp. | ......do | do.
Fairview, Township of, York County | 420923 | September 8, 1972, Emerg; February 15, 1978, Reg; September 25, 2009, Susp. | ......do | do.
Fawn, Township of, York County | 422219 | March 19, 1976, Emerg; April 1, 1981, Reg; September 25, 2009, Susp. | ......do | do.
Fawn Grove, Borough of, York County | 422570 | July 11, 1975, Emerg; June 25, 1976, Reg; September 25, 2009, Susp. | ......do | do.
Felton, Borough of, York County | 420922 | December 17, 1973, Emerg; April 1, 1981, Reg; September 25, 2009, Susp. | ......do | do.
Franklin, Township of, York County | 422220 | July 31, 1975, Emerg; January 19, 1983, Reg; September 25, 2009, Susp. | ......do | do.
Glen Rock, Borough of, York County | 420924 | March 16, 1973, Emerg; July 16, 1981, Reg; September 25, 2009, Susp. | ......do | do.
Goldsboro, Borough of, York County | 420925 | June 6, 1973, Emerg; February 15, 1980, Reg; September 25, 2009, Susp. | ......do | do.
Hallam, Borough of, York County | 420926 | August 7, 1973, Emerg; February 15, 1980, Reg; September 25, 2009, Susp. | ......do | do.
Hanover, Borough of, York County | 422212 | July 2, 1974, Emerg; January 6, 1982, Reg; September 25, 2009, Susp. | ......do | do.
Heidelberg, Township of, York County | 422221 | February 18, 1976, Emerg; September 30, 1981, Reg; September 25, 2009, Susp. | ......do | do.
Hellam, Township of, York County | 420927 | June 27, 1973, Emerg; March 18, 1980, Reg; September 25, 2009, Susp. | ......do | do.
Hopewell, Township of, York County | 422222 | April 21, 1975, Emerg; September 16, 1981, Reg; September 25, 2009, Susp. | ......do | do.
Jackson, Township of, York County | 422223 | March 10, 1976, Emerg; September 30, 1981, Reg; September 25, 2009, Susp. | ......do | do.
Jacobus, Borough of, York County | 420928 | August 13, 1975, Emerg; June 30, 1976, Reg; September 25, 2009, Susp. | ......do | do.
Lewisberry, Borough of, York County | 420929 | January 27, 1976, Emerg; November 17, 1982, Reg; September 25, 2009, Susp. | ......do | do.
Lower Chanceford, Township of, York County | 420930 | June 6, 1973, Emerg; February 15, 1980, Reg; September 25, 2009, Susp. | ......do | do.
Lower Windsor, Township of, York County | 421187 | August 29, 1975, Emerg; March 2, 1983, Reg; September 25, 2009, Susp. | ......do | do.
Manchester, Township of, York County | 420931 | January 26, 1973, Emerg; December 1, 1981, Reg; September 25, 2009, Susp. | ......do | do.
Manheim, Township of, York County | 422224 | April 21, 1975, Emerg; April 4, 1983, Reg; September 25, 2009, Susp. | ......do | do.
Monaghan, Township of, York County | 422225 | June 10, 1975, Emerg; August 15, 1980, Reg; September 25, 2009, Susp. | ......do | do.
Mount Wolf, Borough of, York County | 421021 | August 20, 1973, Emerg; May 15, 1980, Reg; September 25, 2009, Susp. | ......do | do.
New Freedom, Borough of, York County | 420932 | October 24, 1973, Emerg; March 2, 1979, Reg; September 25, 2009, Susp. | ......do | do.
Newberry, Township of, York County | 422226 | July 19, 1974, Emerg; July 2, 1980, Reg; September 25, 2009, Susp. | ......do | do.
North Codorus, Township of, York County | 422227 | August 6, 1975, Emerg; October 15, 1981, Reg; September 25, 2009, Susp. | ......do | do.
North Hopewell, Township of, York County | 422228 | September 25, 1975, Emerg; April 1, 1981, Reg; September 25, 2009, Susp. | ......do | do.
North York, Borough of, York County | 420933 | March 16, 1973, Emerg; May 2, 1977, Reg; September 25, 2009, Susp. | ......do | do.
Paradise, Township of, York County | 420934 | June 6, 1973, Emerg; September 2, 1981, Reg; September 25, 2009, Susp. | ......do | do.
Peach Bottom, Township of, York County | 422229 | January 16, 1975, Emerg; September 30, 1981, Reg; September 25, 2009, Susp. | ......do | do.
Penn, Township of, York County | 421025 | January 16, 1974, Emerg; October 15, 1981, Reg; September 25, 2009, Susp. | ......do | do.
Railroad, Borough of, York County | 420935 | May 1, 1975, Emerg; September 28, 1979, Reg; September 25, 2009, Susp. | ......do | do.
Seven Valleys, Borough of, York County | 420936 | December 13, 1974, Emerg; September 28, 1979, Reg; September 25, 2009, Susp. | ......do | do.
Shrewsbury, Township of, York County | 422230 | April 1, 1976, Emerg; September 16, 1981, Reg; September 25, 2009, Susp. | ......do | do.
Spring Garden, Township of, York County | 420937 | August 27, 1973, Emerg; June 15, 1977, Reg; September 25, 2009, Susp. | ......do | do.
Spring Grove, Borough of, York County | 420938 | April 17, 1975, Emerg; August 15, 1983, Reg; September 25, 2009, Susp. | ......do | do.
Springettsbury, Township of, York County | 421031 | November 2, 1973, Emerg; December 15, 1977, Reg; September 25, 2009, Susp. | ......do | do.
Springfield, Township of, York County | 422231 | November 13, 1975, Emerg; April 1, 1981, Reg; September 25, 2009, Susp. | ......do | do.
Warrington, Township of, York County | 422232 | May 31, 1979, Emerg; March 16, 1983, Reg; September 25, 2009, Susp. | ......do | do.
Washington, Township of, York County | 421150 | April 4, 1974, Emerg; March 2, 1983, Reg; September 25, 2009, Susp. | ......do | do.
Wellsville, Borough of, York County | 420940 | July 31, 1979, Emerg; December 31, 1982, Reg; September 25, 2009, Susp. | ......do | do.
West Manchester, Township of, York County | 422233 | August 22, 1974, Emerg; June 15, 1981, Reg; September 25, 2009, Susp. | ......do | do.
West Manheim, Township of, York County | 422234 | March 9, 1976, Emerg; March 16, 1983, Reg; September 25, 2009, Susp. | ......do | do.
Windsor, Borough of, York County | 420942 | May 27, 1975, Emerg; November 3, 1982, Reg; September 25, 2009, Susp. | ......do | do.
Windsor, Township of, York County | 422235 | September 6, 1974, Emerg; June 1, 1983, Reg; September 25, 2009, Susp. | ......do | do.
Wrightsville, Borough of, York County | 420943 | June 6, 1973, Emerg; December 18, 1979, Reg; September 25, 2009, Susp. | ......do | do.
Yoe, Borough of, York County | 420944 | July 29, 1975, Emerg; December 1, 1982, Reg; September 25, 2009, Susp. | ......do | do.
York, City of, York County | 420945 | October 6, 1972, Emerg; June 15, 1977, Reg; September 25, 2009, Susp. | ......do | do.
York, Township of, York County | 421032 | August 1, 1973, Emerg; May 17, 1989, Reg; September 25, 2009, Susp. | ......do | do.
York Haven, Borough of, York County | 420946 | April 13, 1978, Emerg; December 18, 1979, Reg; September 25, 2009, Susp. | ......do | do.
Virginia:
Blacksburg, Town of, Montgomery County | 510100 | June 19, 1974, Emerg; May 15, 1980, Reg; September 25, 2009, Susp. | ......do | do.
Christiansburg, Town of, Montgomery County | 510101 | April 29, 1975, Emerg; August 15, 1980, Reg; September 25, 2009, Susp. | ......do | do.
Giles County Unincorporated Areas | 510067 | October 24, 1973, Emerg; June 15, 1981, Reg; September 25, 2009, Susp. | ......do | do.
Glen Lyn, Town of, Giles County | 510289 | April 16, 1976, Emerg; March 15, 1979, Reg; September 25, 2009, Susp. | ......do | do.
Montgomery County Unincorporated Areas | 510099 | February 19, 1974, Emerg; October 17, 1978, Reg; September 25, 2009, Susp. | ......do | do.
Narrows, Town of, Giles County | 510068 | December 6, 1973, Emerg; September 15, 1978, Reg; September 25, 2009, Susp. | ......do | do.
New Kent County Unincorporated Areas | 510306 | August 19, 1975, Emerg; December 5, 1990, Reg; September 25, 2009, Susp. | ......do | do.
Pearisburg, Town of, Giles County | 510229 | October 7, 1975, Emerg; November 20, 1981, Reg; September 25, 2009, Susp. | ......do | do.
Pembroke, Town of, Giles County | 510069 | January 21, 1974, Emerg; August 1, 1978, Reg; September 25, 2009, Susp. | ......do | do.
Portsmouth, Independent City County | 515529 | May 15, 1970, Emerg; July 2, 1971, Reg; September 25, 2009, Susp. | ......do | do.
Radford, Independent City County | 510127 | December 5, 1974, Emerg; August 1, 1978, Reg; September 25, 2009, Susp. | ......do | do.
Rich Creek, Town of, Creek County | 510070 | June 10, 1975, Emerg; August 15, 1978, Reg; September 25, 2009, Susp. | ......do | do.
West Virginia:
Bath, Town of, Morgan County | 540005 | May 20, 1975, Emerg; January 2, 1980, Reg; September 25, 2009, Susp. | ......do | do.
Benwood, City of, Marshall County | 540108 | June 3, 1974, Emerg; May 1, 1980, Reg; September 25, 2009, Susp. | ......do | do.
Cameron, City of, Marshall County | 540287 | March 31, 1982, Emerg; September 4, 1986, Reg; September 25, 2009, Susp. | ......do | do.
Flemington, Town of, Taylor County | 540189 | April 18, 1975, Emerg; December 26, 1978, Reg; September 25, 2009, Susp. | ......do | do.
Glen Dale, City of, Marshall County | 540109 | April 2, 1975, Emerg; April 1, 1980, Reg; September 25, 2009, Susp. | ......do | do.
Hundred, Town of, Wetzel County | 540256 | July 10, 1975, Emerg; April 1, 1988, Reg; September 25, 2009, Susp. | ......do | do.
Marshall County Unincorporated Areas | 540107 | December 22, 1975, Emerg; April 17, 1984, Reg; September 25, 2009, Susp. | ......do | do.
McMechen, City of, Marshall County | 540110 | April 11, 1975, Emerg; April 15, 1980, Reg; September 25, 2009, Susp. | ......do | do.
Moundsville, City of, Marshall County | 540111 | May 27, 1975, Emerg; May 15, 1980, Reg; September 25, 2009, Susp. | ......do | do.
New Martinsville, City of, Wetzel County | 540208 | May 21, 1975, Emerg; September 2, 1982, Reg; September 25, 2009, Susp. | ......do | do.
Paden City, City of, Wetzel County | 540196 | May 2, 1975, Emerg; March 16, 1989, Reg; September 25, 2009, Susp. | ......do | do.
Pine Grove, City of, Wetzel County | 540210 | July 16, 1975, Emerg; April 1, 1988, Reg; September 25, 2009, Susp. | ......do | do.
Smithfield, Town of, Wetzel County | 540258 | November 5, 1975, Emerg; April 1, 1988, Reg; September 25, 2009, Susp. | ......do | do.
Taylor County Unincorporated Areas | 540188 | October 22, 1975, Emerg; July 1, 1987, Reg; September 25, 2009, Susp. | ......do | do.
Region IV
Florida:
Apopka, City of, Orange County | 120180 | June 17, 1975, Emerg; September 29, 1978, Reg; September 25, 2009, Susp. | ......do | do.
Belle Isle, City of, Orange County | 120181 | July 3, 1975, Emerg; September 15, 1978, Reg; September 25, 2009, Susp. | ......do | do.
Eatonville, Town of, Orange County | 120182 | March 31, 1975, Emerg; December 1, 1978, Reg; September 25, 2009, Susp. | ......do | do.
Edgewood, City of, Orange County | 120183 | January 1, 1975, Emerg; September 29, 1978, Reg; September 25, 2009, Susp. | ......do | do.
Maitland, City of, Orange County | 120184 | October 10, 1974, Emerg; September 5, 1979, Reg; September 25, 2009, Susp. | ......do | do.
Ocoee, City of, Orange County | 120185 | April 2, 1975, Emerg; November 1, 1978, Reg; September 25, 2009, Susp. | ......do | do.
Orange County Unincorporated Areas | 120179 | July 29, 1975, Emerg; December 1, 1981, Reg; September 25, 2009, Susp. | ......do | do.
Orlando, City of, Orange County | 120186 | August 30, 1974, Emerg; September 3, 1980, Reg; September 25, 2009, Susp. | ......do | do.
Windermere, Town of, Orange County | 120381 | November 2, 1979, Emerg; December 18, 1984, Reg; September 25, 2009, Susp. | ......do | do.
Winter Garden, City of, Orange County | 120187 | May 12, 1975, Emerg; September 29, 1978, Reg; September 25, 2009, Susp. | ......do | do.
Winter Park, City of, Orange County | 120188 | May 28, 1974, Emerg; November 15, 1979, Reg; September 25, 2009, Susp. | ......do | do.
Georgia:
Albany, City of, Dougherty County | 130075 | March 3, 1972, Emerg; August 15, 1977, Reg; September 25, 2009, Susp. | ......do | do.
Augusta-Richmond County Unincorporated Areas | 130158 | November 23, 1973, Emerg; March 4, 1980, Reg; September 25, 2009, Susp. | ......do | do.
Baconton, City of, Mitchell County | 130136 | June 16, 1975, Emerg; July 2, 1987, Reg; September 25, 2009, Susp. | ......do | do.
Ben Hill County Unincorporated Areas | 130496 | NA, Emerg; March 12, 2000, Reg; September 25, 2009, Susp. | ......do | do.
Berrien County Unincorporated Areas | 135271 | June 21, 2002, Emerg; NA, Reg; September 25, 2009, Susp. | ......do | do.
Blackshear, City of, Pierce County | 130491 | August 9, 1982, Emerg; August 19, 1985, Reg; September 25, 2009, Susp. | ......do | do.
Boston, City of, Thomas County | 130402 | March 18, 1977, Emerg; June 17, 1986, Reg; September 25, 2009, Susp. | ......do | do.
Brantley County Unincorporated Areas | 130012 | August 13, 1975, Emerg; September 30, 1988, Reg; September 25, 2009, Susp. | ......do | do.
Cave Spring, City of, Floyd County | 130080 | December 19, 1973, Emerg; May 1, 1985, Reg; September 25, 2009, Susp. | ......do | do.
Charlton County Unincorporated Areas | 130292 | October 14, 1991, Emerg; September 21, 1998, Reg; September 25, 2009, Susp. | ......do | do.
Coolidge, City of, Thomas County | 130169 | July 18, 1995, Emerg; September 1, 2005, Reg; September 25, 2009, Susp. | ......do | do.
Cordele, City of, Crisp County | 130214 | May 7, 1975, Emerg; March 18, 1987, Reg; September 25, 2009, Susp. | ......do | do.
Dougherty County Unincorporated Areas | 130074 | March 3, 1972, Emerg; April 17, 1978, Reg; September 25, 2009, Susp. | ......do | do.
Floyd County Unincorporated Areas | 130079 | March 5, 1975, Emerg; May 19, 1987, Reg; September 25, 2009, Susp. | ......do | do.
Folkston, City of, Charlton County | 130290 | March 10, 1976, Emerg; June 3, 1986, Reg; September 25, 2009, Susp. | ......do | do.
Hephzibah, City of, Richmond County | 130442 | July 10, 1975, Emerg; June 25, 1976, Reg; September 25, 2009, Susp. | ......do | do.
Hoboken, City of, Brantley County | 130013 | May 30, 1975, Emerg; April 15, 1986, Reg; September 25, 2009, Susp. | ......do | do.
Homeland, Town of, Charlton County | 130291 | NA, Emerg; August 13, 1998, Reg; September 25, 2009, Susp. | ......do | do.
Lamar County Unincorporated Areas | 130556 | December 29, 1997, Emerg; NA, Reg; September 25, 2009, Susp. | ......do | do.
Mitchell County Unincorporated Areas | 130438 | Septmber 28, 1990, Emerg; July 1, 1991, Reg; September 25, 2009, Susp. | ......do | do.
Moultrie, City of, Colquitt County | 130199 | November 12, 1973, Emerg; May 15, 1979, Reg; September 25, 2009, Susp. | ......do | do.
Nahunta, City of, Brantley County | 130014 | May 28, 1975, Emerg; September 4, 1985, Reg; September 25, 2009, Susp. | ......do | do.
Nashville, City of, Berrien County | 130008 | January 15, 1975, Emerg; August 1, 1986, Reg; September 25, 2009, Susp. | ......do | do.
Patterson, Town of, Pierce County | 130457 | NA, Emerg; October 11, 1990, Reg; September 25, 2009, Susp. | ......do | do.
Pelham, City of, Mitchell County | 130437 | September 30, 1975, Emerg; April 2, 1986, Reg; September 25, 2009, Susp. | ......do | do.
Pierce County Unincorporated Areas | 130151 | August 13, 1984, Emerg; April 17, 1989, Reg; September 25, 2009, Susp. | ......do | do.
Ray City, City of, Berrien County | 130009 | December 26, 1973, Emerg; April 1, 1977, Reg; September 25, 2009, Susp. | ......do | do.
Riverside, Township of, Colquitt County | 130267 | May 11, 1987, Emerg; August 16, 1988, Reg; September 25, 2009, Susp. | ......do | do.
Rome, City of, Floyd County | 130081 | December 19, 1973, Emerg; September 15, 1978, Reg; September 25, 2009, Susp. | ......do | do.
Seminole County Unincorporated Areas | 130387 | December 26, 1975, Emerg; September 1, 1986, Reg; September 25, 2009, Susp. | ......do | do.
Sylvester, City of, Worth County | 130198 | July 18, 1974, Emerg; May 17, 1989, Reg; September 25, 2009, Susp. | ......do | do.
Thomaston, City of, Upson County | 130408 | March 1, 1976, Emerg; September 29, 1986, Reg; September 25, 2009, Susp. | ......do | do.
Thomasville, City of, Thomas County | 130170 | December 17, 1973, Emerg; May 16, 1977, Reg; September 25, 2009, Susp. | ......do | do.
Upson County Unincorporated Areas | 130407 | February 18, 1976, Emerg; May 17, 1989, Reg; September 25, 2009, Susp. | ......do | do.
Ware County Unincorporated Areas | 130184 | May 5, 1975, Emerg; December 2, 1980, Reg; September 25, 2009, Susp. | ......do | do.
Waycross, City of, Ware County | 130186 | January 10, 1974, Emerg; August 3, 1981, Reg; September 25, 2009, Susp. | ......do | do.
Worth County Unincorporated Areas | 130196 | March 10, 1995, Emerg; March 17, 1997, Reg; September 25, 2009, Susp. | ......do | do.
Tennessee:
Alamo, Town of, Crockett County | 470245 | December 8, 1986, Emerg; February 1, 1990, Reg; September 25, 2009, Susp. | ......do | do.
Claiborne County Unincorporated Areas | 470212 | April 16, 1974, Emerg; May 4, 1988, Reg; September 25, 2009, Susp. | ......do | do.
Cocke County Unincorporated Areas | 470033 | March 14, 1978, Emerg; January 06, 1988, Reg; September 25, 2009, Susp. | ......do | do.
Crockett County Unincorporated Areas | 470383 | January 15, 2003, Emerg; NA, Reg; September 25, 2009, Susp. | ......do | do.
Cumberland Gap, City of, Claiborne County | 470326 | November 29, 1983, Emerg; March 1, 1986, Reg; September 25, 2009, Susp. | ......do | do.
Dickson, City of, Dickson County | 470335 | December 16, 1982, Emerg; December 16, 1982, Reg; September 25, 2009, Susp. | ......do | do.
Dickson County Unincorporated Areas | 470046 | June 18, 1982, Emerg; June 15, 1984, Reg; September 25, 2009, Susp. | ......do | do.
Grundy County Unincorporated Areas | 470250 | March 11, 1991, Emerg; March 1, 1995, Reg; September 25, 2009, Susp. | ......do | do.
Harrogate, City of, Claiborne County | 470420 | NA, Emerg; September 15, 2001, Reg; September 25, 2009, Susp. | ......do | do.
Luttrell, Town of, Union County | 470209 | October 28, 1986, Emerg; September 1, 1989, Reg; September 25, 2009, Susp. | ......do | do.
Mcewen, City of, Humphreys County | 470308 | February 1, 1993, Emerg; May 1, 1994, Reg; September 25, 2009, Susp. | ......do | do.
New Johnsville, City of, Humphreys County | 470266 | September 30, 1974, Emerg; September 29, 1986, Reg; September 25, 2009, Susp. | ......do | do.
New Tazewell, City of, Claiborne County | 470030 | November 1, 1974, Emerg; August 5, 1986, Reg; September 25, 2009, Susp. | ......do | do.
Newport, City of, Cocke County | 475440 | February 12, 1971, Emerg; September 3, 1971, Reg; September 25, 2009, Susp. | ......do | do.
Plainview, City of, Union County | 470417 | NA, Emerg; December 9, 1999, Reg; September 25, 2009, Susp. | ......do | do.
Tazewell, City of, Claiborne County | 475449 | October 30, 1970, Emerg; October 30, 1970, Reg; September 25, 2009, Susp. | ......do | do.
Waverly, City of, Humphreys County | 470095 | May 24, 1974, Emerg; March 4, 1986, Reg; September 25, 2009, Susp. | ......do | do.
Region V
Indiana:
Avon, Town of, Hendricks County | 180520 | November 17, 2000, Emerg; NA, Reg; September 25, 2009, Susp. | ......do | do.
Battle Ground, Town of, Tippecanoe County | 180252 | November 28, 1975, Emerg; January 2, 1981, Reg; September 25, 2009, Susp. | ......do | do.
Brownsburg, Town of, Hendricks County | 180087 | April 17, 1980, Emerg; April 17, 1980, Reg; September 25, 2009, Susp. | ......do | do.
Danville, Town of, Hendricks County | 180088 | March 10, 1975, Emerg; November 15, 1979, Reg; September 25, 2009, Susp. | ......do | do.
Dayton, Town of, Tippecanoe County | 180486 | February 12, 1982, Emerg; February 12, 1982, Reg; September 25, 2009, Susp. | ......do | do.
Hendricks County Unincorporated Areas | 180415 | March 17, 1975, Emerg; March 16, 1981, Reg; September 25, 2009, Susp. | ......do | do.
Lafayette, Town of, Tippecanoe County | 180253 | February 7, 1975, Emerg; November 19, 1980, Reg; September 25, 2009, Susp. | ......do | do.
Plainfield, Town of, Hendricks County | 180089 | April 16, 1976, Emerg; March 1, 1979, Reg; September 25, 2009, Susp. | ......do | do.
Tippecanoe County Unincorporated Areas | 180428 | December 24, 1975, Emerg; March 16, 1981, Reg; September 25, 2009, Susp. | ......do | do.
West Lafayette, City of, Tippecanoe County | 180254 | December 13, 1974, Emerg ; January 2, 1981, Reg; September 25, 2009, Susp. | ......do | do.
Michigan:
Argentine, Township of, Genesee County | 260392 | July 11, 1975, Emerg; January 2, 1981, Reg; September 25, 2009, Susp. | ......do | do.
Atlas, Township of, Genesee County | 260393 | September 2, 1976, Emerg; June 15, 1979, Reg; September 25, 2009, Susp. | ......do | do.
Burton, City of, Genesee County | 260287 | January 21, 1974, Emerg; August 1, 1980, Reg; September 25, 2009, Susp. | ......do | do.
Clayton, Township of, Genesee County | 260663 | October 2, 1980, Emerg; October 2, 1980, Reg; September 25, 2009, Susp. | ......do | do.
Clio, City of, Genesee County | 260667 | August 14, 1980, Emerg; September 3, 1980, Reg; September 25, 2009, Susp. | ......do | do.
Davison, City of, Genesee County | 260074 | July 30, 1974, Emerg; June 15, 1979, Reg; September 25, 2009, Susp. | ......do | do.
Davison, Township of, Genesee County | 260664 | March 6, 1979, Emerg; June 15, 1979, Reg; September 25, 2009, Susp. | ......do | do.
Fenton, City of, Genesee County | 260075 | August 30, 1974, Emerg; January 16, 1981, Reg; September 25, 2009, Susp. | ......do | do.
Fenton, Township of, Genesee County | 260394 | March 24, 1978, Emerg; January 16, 1981, Reg; September 25, 2009, Susp. | ......do | do.
Flint, City of, Genesee County | 260076 | August 28, 1973, Emerg; January 2, 1981, Reg; September 25, 2009, Susp. | ......do | do.
Flint, Township of, Genesee County | 260395 | October 26, 1976, Emerg; November 1, 1979, Reg; September 25, 2009, Susp. | ......do | do.
Flushing, City of, Genesee County | 260077 | June 6, 1974, Emerg; June 15, 1979, Reg; September 25, 2009, Susp. | ......do | do.
Flushing, Township of, Genesee County | 260396 | December 6, 1979, Emerg; February 4, 1981, Reg; September 25, 2009, Susp. | ......do | do.
Gaines, Township of, Genesee County | 260293 | May 3, 1974, Emerg; December 18, 1979, Reg; September 25, 2009, Susp. | ......do | do.
Genesee, Township of, Genesee County | 260078 | May 11, 1973, Emerg; December 2, 1980, Reg; September 25, 2009, Susp. | ......do | do.
Goodrich, Village of, Genesee County | 260397 | May 25, 1976, Emerg; September 29, 1978, Reg; September 25, 2009, Susp. | ......do | do.
Grand Blanc, City of, Genesee County | 260255 | May 20, 1974, Emerg; July 2, 1980, Reg; September 25, 2009, Susp. | ......do | do.
Grand Blanc, Township of, Genesee County | 260079 | January 23, 1974, Emerg; August 1, 1980, Reg; September 25, 2009, Susp. | ......do | do.
Linden, City of, Genesee County | 260398 | June 16, 1986, Emerg; June 16, 1986, Reg; September 25, 2009, Susp. | ......do | do.
Montrose, Township of, Genesee County | 260399 | July 29, 1975, Emerg; July 2, 1980, Reg; September 25, 2009, Susp. | ......do | do.
Mount Morris, Township of, Genesee County | 260400 | June 13, 1975, Emerg; February 4, 1981, Reg; September 25, 2009, Susp. | ......do | do.
Mundy, Township of, Genesee County | 260401 | July 29, 1976, Emerg; November 1, 1979, Reg; September 25, 2009, Susp. | ......do | do.
Richfield, Township of, Genesee County | 260402 | January 13, 1983, Emerg; January 13, 1983, Reg; September 25, 2009, Susp. | ......do | do.
Swartz Creek, City of, Genesee County | 260080 | June 23, 1975, Emerg; November 1, 1979, Reg; September 25, 2009, Susp. | ......do | do.
Thetford, Township of, Genesee County | 260683 | August 29, 1986, Emerg; January 6, 1988, Reg; September 25, 2009, Susp. | ......do | do.
Vienna, Township of, Genesee County | 260665 | March 29, 1976, Emerg; January 2, 1981, Reg; September 25, 2009, Susp. | ......do | do.
Minnesota:
Brown County Unincorporated Areas | 270034 | January 28, 1972, Emerg; August 15, 1977, Reg; September 25, 2009, Susp. | ......do | do.
Cannon Falls, City of, Goodhue County | 270141 | April 5, 1974, Emerg; January 2, 1981, Reg; September 25, 2009, Susp. | ......do | do.
Comfrey, City of, Brown County | 270035 | March 7, 1997, Emerg; June 6, 2000, Reg; September 25, 2009, Susp. | ......do | do.
Dennison, City of, Rice County | 270713 | December 21, 1978, Emerg; September 18, 1985, Reg; September 25, 2009, Susp. | ......do | do.
Goodhue County Unincorporated Areas | 270140 | April 30, 1971, Emerg; April 17, 1978, Reg; September 25, 2009, Susp. | ......do | do.
Lake City, City of, Goodhue County | 270486 | March 12, 1974, Emerg; February 18, 1981, Reg; September 25, 2009, Susp. | ......do | do.
Morton, City of, Renville County | 270399 | July 3, 1974, Emerg; December 18, 1986, Reg; September 25, 2009, Susp. | ......do | do.
New Ulm, City of, Brown County | 270036 | February 11, 1974, Emerg; December 18, 1979, Reg; September 25, 2009, Susp. | ......do | do.
Pine Island, City of, Goodhue County | 270145 | September 4, 1974, Emerg; March 2, 1981, Reg; September 25, 2009, Susp. | ......do | do.
Red Wing, City of, Goodhue County | 270146 | July 5, 1974, Emerg; September 29, 1978 , Reg; September 25, 2009, Susp. | ......do | do.
Renville County Unincorporated Areas | 270634 | April 30, 1974, Emerg; March 16, 1988, Reg; September 25, 2009, Susp. | ......do | do.
Springfield, City of, Brown County | 270038 | April 23, 1974, Emerg; July 2, 1979, Reg; September 25, 2009, Susp. | ......do | do.
Wanamingo, City of, Goodhue County | 270147 | March 24, 1981, Emerg; June 15, 1981, Reg; September 25, 2009, Susp. | ......do | do.
Zumbrota, City of, Goodhue County | 270148 | June 23, 1975, Emerg; September 3, 1980, Reg; September 25, 2009, Susp. | ......do | do.
Region VI
New Mexico:
Chaves County Unincorporated Areas | 350125 | February 2, 1983, Emerg; February 2, 1983, Reg; September 25, 2009, Susp. | ......do | do.
Dexter, Town of, Chaves County | 350112 | March 14, 2006, Emerg; NA, Reg; September 25, 2009, Susp. | ......do | do.
Roswell, Town of, Chaves County | 350006 | May 23, 1975, Emerg; July 19, 1982, Reg; September 25, 2009, Susp. | ......do | do.
Oklahoma:
Blackwell, City of, Kay County | 400078 | May 31, 1974, Emerg; May 1, 1980, Reg; September 25, 2009, Susp. | ......do | do.
Braman, Town of, Kay County | 400264 | July 21, 1986, Emerg; October 16, 1992, Reg; September 25, 2009, Susp. | ......do | do.
Kay County Unincorporated Areas | 400477 | July 15, 1987, Emerg; March 5, 1990, Reg; September 25, 2009, Susp. | ......do | do.
Newkirk, City of, Kay County | 400422 | March 9, 1977, Emerg; August 5, 1985, Reg; September 25, 2009, Susp. | ......do | do.
Ponca City, City of, Kay County | 400080 | March 6, 1974, Emerg; July 2, 1980, Reg; September 25, 2009, Susp. | ......do | do.
Tonkawa, City of, Kay County | 400079 | June 30, 1976, Emerg; February 4, 1981, Reg; September 25, 2009, Susp. | ......do | do.
Texas:
Arlington, City of, Tarrant County | 485454 | July 31, 1970, Emerg; December 30, 1970, Reg; September 25, 2009, Susp. | ......do | do.
Blue Mound, City of, Tarrant County | 480587 | July 3, 1975, Emerg; July 16, 1980, Reg; September 25, 2009, Susp. | ......do | do.
Flower Mound, Town of, Denton County | 480777 | July 31, 1975, Emerg; September 18, 1986, Reg; September 25, 2009, Susp. | ......do | do.
Haslet, City of, Tarrant County | 480600 | December 18, 1981, Emerg; October 15, 1985, Reg; September 25, 2009, Susp. | ......do | do.
Keller, City of, Tarrant County | 480602 | June 6, 1975, Emerg; September 30, 1982, Reg; September 25, 2009, Susp. | ......do | do.
Mansfield, City of, Tarrant County | 480606 | February 28, 1975, Emerg; December 18, 1985, Reg; September 25, 2009, Susp. | ......do | do.
Pantego, Town of, Tarrant County | 481116 | April 15, 1975, Emerg; July 16, 1980, Reg; September 25, 2009, Susp. | ......do | do.
Pelican Bay, City of, Tarrant County | 481653 | NA, Emerg; March 6, 2008, Reg; September 25, 2009, Susp. | ......do | do.
Richland Hills, City of, Tarrant County | 480608 | March 3, 1972, Emerg; February 16, 1977, Reg; September 25, 2009, Susp. | ......do | do.
Roanoke, City of, Denton County | 480785 | March 14, 1991, Emerg; April 2, 1997, Reg; September 25, 2009, Susp. | ......do | do.
Westlake, Town of, Tarrant County | 480614 | May 24, 1993, Emerg; June 2, 1993, Reg; September 25, 2009, Susp. | ......do | do.
Region VII
Iowa:
Harpers Ferry, City of, Allamakee County | 190316 | November 19, 1993, Emerg; July 1, 1997, Reg; September 25, 2009, Susp. | ......do | do.
New Albin, City of, Allamakee County | 190942 | October 29, 1982, Emerg; September 30, 1988, Reg; September 25, 2009, Susp. | ......do | do.
Waukon, City of, Allamakee County | 190008 | August 26, 1975, Emerg; June 10, 1980, Reg; September 25, 2009, Susp. | ......do | do.
Kansas:
Dodge City, City of, Ford County | 205184 | June 4, 1971, Emerg; May 19, 1972, Reg; September 25, 2009, Susp. | ......do | do.
Ford County Unincorporated Areas | 200101 | March 26, 1981, Emerg; July 3, 1986, Reg; September 25, 2009, Susp. | ......do | do.
Humboldt, City of, Allen County | 200002 | December 24, 1974, Emerg; September 1, 1978, Reg; September 25, 2009, Susp. | ......do | do.
Liberal, City of, Seward County | 200330 | October 29, 1974, Emerg; September 28, 1990, Reg; September 25, 2009, Susp. | ......do | do.
Seward County Unincorporated Areas | 200606 | October 22, 1996, Emerg; May 1, 1999, Reg; September 25, 2009, Susp. | ......do | do.
Region VIII
Colorado:
Archuleta County Unincorporated Areas | 080273 | July 23, 1975, Emerg; January 3, 1979, Reg; September 25, 2009, Susp. | ......do | do.
Cripple Creek, City of, Teller County | 080174 | July 15, 1975, Emerg; December 18, 1985, Reg; September 25, 2009, Susp. | ......do | do.
Pagosa Springs, Town of, Archuleta County | 080019 | May 30, 1975, Emerg; December 1, 1978, Reg; September 25, 2009, Susp. | ......do | do.
Teller County Unincorporated Areas | 080173 | September 24, 1976, Emerg; September 30, 1988, Reg; September 25, 2009, Susp. | ......do | do.
Woodland Park, City of, Teller County | 080175 | April 23, 1975, Emerg; September 30, 1988, Reg; September 25, 2009, Susp. | ......do | do.
Utah:
Draper, City of, Salt Lake County | 490244 | April 30, 1980, Emerg; December 18, 1985, Reg; September 25, 2009, Susp. | ......do | do.
Herriman, Town of, Salt Lake County | 490252 | NA, Emerg; March 12, 2002, Reg; September 25, 2009, Susp. | ......do | do.
Holladay City, City of, Salt Lake County | 490253 | NA, Emerg; August 24, 2004, Reg; September 25, 2009, Susp. | ......do | do.
Midvale, City of, Salt Lake County | 490211 | December 9, 1976, Emerg; February 2, 1984, Reg; September 25, 2009, Susp. | ......do | do.
Murray, City of, Salt Lake County | 490103 | December 19, 1974, Emerg; December 18, 1985, Reg; September 25, 2009, Susp. | ......do | do.
Riverton, City of, Salt Lake County | 490104 | October 23, 1975, Emerg; February 19, 1986, Reg; September 25, 2009, Susp. | ......do | do.
Salt Lake City, City of, Salt Lake County | 490105 | May 28, 1974, Emerg; August 1, 1983, Reg; September 25, 2009, Susp. | ......do | do.
Salt Lake County Unincorporated Areas | 490102 | September 26, 1974, Emerg; December 18, 1985, Reg; September 25, 2009, Susp. | ......do | do.
South Jordan, City of, Salt Lake County | 490107 | June 10, 1975, Emerg; December 18, 1985, Reg; September 25, 2009, Susp. | ......do | do.
South Salt Lake, City of, Salt Lake County | 490219 | May 23, 1975, Emerg; December 18, 1985, Reg; September 25, 2009, Susp. | ......do | do.
Taylorsville, City of, Salt Lake County | 490248 | NA, Emerg; October 9, 1998, Reg; September 25, 2009, Susp. | ......do | do.
West Jordan, City of, Salt Lake County | 490108 | July 16, 1975, Emerg; September 1, 1987, Reg; September 25, 2009, Susp. | ......do | do.
West Valley City, City of, Salt Lake County | 490245 | February 14, 1983, Emerg; May 1, 1986, Reg; September 25, 2009, Susp. | ......do | do.
Region IX
Hawaii: Maui County Unincorporated Areas | 150003 | September 18, 1970, Emerg; June 1, 1981, Reg; September 25, 2009, Susp. | ......do | do.
Nevada: Pershing County Unincorporated Areas | 320032 | May 15, 1984, Emerg; June 17, 1991, Reg; September 25, 2009, Susp. | ......do | do.
Region X
Alaska:
Anchorage, Municipality | 020005 | June 12, 1970, Emerg; September 5, 1979, Reg; September 25, 2009, Susp. | ......do | do.
Homer, City of, Kenai Peninsula | 020107 | NA, Emerg; June 2, 2003, Reg; September 25, 2009, Susp. | ......do | do.
Emmonak, City of, Wade Hampton Census Area | 020125 | May 22, 1992, Emerg; September 21, 1998, Reg; September 25, 2009, Susp. | ......do | do.
Idaho:
Benewah County Unincorporated Areas | 160014 | May 3, 1974, Emerg; July 16, 1979, Reg; September 25, 2009, Susp. | ......do | do.
Saint Maries, City of, Benewah County | 160016 | June 13, 1974, Emerg; November 15, 1979, Reg; September 25, 2009, Susp. | ......do | do.
Tensed, City of, Benewah County | 160017 | August 26, 1975, Emerg; August 15, 1978, Reg; September 25, 2009, Susp. | ......do | do.
Oregon:
Bandon, City of, Coos County | 410043 | October 11, 1974, Emerg; August 15, 1984, Reg; September 25, 2009, Susp. | ......do | do.
Brookings, City of, Curry County | 410053 | July 8, 1975, Emerg; September 18, 1985, Reg; September 25, 2009, Susp. | ......do | do.
Coos Bay, City of, Coos County | 410044 | August 23, 1974, Emerg; August 1, 1984, Reg; September 25, 2009, Susp. | ......do | do.
Coos County Unincorporated Areas | 410042 | July 7, 1975, Emerg; November 15, 1984, Reg; September 25, 2009, Susp. | ......do | do.
Coquille, City of, Coos County | 410045 | April 29, 1975, Emerg; September 28, 1984, Reg; September 25, 2009, Susp. | ......do | do.
Curry County Unincorporated Areas | 410052 | March 19, 1971, Emerg; April 3, 1978, Reg; September 25, 2009, Susp. | ......do | do.
Gold Beach, City of, Curry County | 410054 | November 11, 1974, Emerg; November 15, 1985, Reg; September 25, 2009, Susp. | ......do | do.
Lakeside, City of, Coos County | 410278 | June 2, 1975, Emerg; August 1, 1984, Reg; September 25, 2009, Susp. | ......do | do.
Myrtle Point, City of, Coos County | 410047 | January 30, 1975, Emerg; July 16, 1984, Reg; September 25, 2009, Susp. | ......do | do.
North Bend, City of, Coos County | 410048 | June 4, 1975, Emerg; August 1, 1984, Reg; September 25, 2009, Susp. | ......do | do.
Port Orford, City of, Curry County | 410272 | March 31, 1977, Emerg; January 29, 1980, Reg; September 25, 2009, Susp. | ......do | do.
Powers, City of, Coos County | 410049 | August 6, 1975, Emerg; June 30, 1976, Reg; September 25, 2009, Susp. | ......do | do.
*......do = Ditto.
Code for reading third column: Emerg. —Emergency; Reg. —Regular; Susp. —Suspension.

Dated: September 14, 2009.
Deborah Ingram,
Acting Deputy Assistant Administrator for Mitigation, Mitigation Directorate.

[FR Doc. E9-22687 Filed 9-21-09; 8:45 am]

BILLING CODE 9110-12-P